DEPARTMENT OF HEALTH AND HUMAN SERVICES

Centers for Disease Control and Prevention

Disease, Disability, and Injury Prevention and Control Special Emphasis Panel (SEP): Grant for Research on the Impact of Laws and Policies on Public Health, Program Announcement #00051

In accordance with section 10(a)(2) of the Federal Advisory Committee Act (Pub. L. 92-463), the Centers for Disease Control and Prevention (CDC) announces the following meeting.

Name: Disease, Disability, and Injury Prevention and Control Special Emphasis Panel (SEP): Grant for Research on the Impact of Laws and Policies on Public Health, Program Announcement #00051.

Times and Dates: 7 p.m.-7:30 p.m., August 1, 2000 (Open); 7:30 p.m.-9:30 p.m., August 1, 2000 (Closed); 8 a.m.-4:30 p.m., August 2, 2000 (Closed).

Place: Airport Crowne Plaza Hotel, Virginia Avenue, Atlanta, Georgia 30344. Telephone 404/768-6660.

Status: Portions of the meeting will be closed to the public in accordance with provisions set forth in section 552b(c)(4) and (6), Title 5 U.S.C., and the Determination of the Associate Director for Management and Operations, CDC, pursuant to Public Law 92-463.

Matters To Be Discussed: The meeting will include the review, discussion, and evaluation of applications received in response to Program Announcement #00051.

Contact Person for More Information: Richard A. Goodman, M.D., M.P.H., Senior Advisor for Science and Policy, Centers for Disease Control and Prevention, 1600 Clifton Road m/s D03, Atlanta, Georgia 30333. Telephone 404/639-7400, email rag4@cdc.gov.

The Director, Management Analysis and Services office has been delegated the authority to sign Federal Register notices pertaining to announcements of meetings and other committee management activities, for both the Centers for Disease Control and Prevention and the Agency for Toxic Substances and Disease Registry.

Dated: July 3, 2000.
Carolyn J. Russell,
Director, Management Analysis and Services Office, Centers for Disease Control and Prevention CDC.

[FR Doc. 00-17293 Filed 7-7-00; 8:45 am]

BILLING CODE 4163-18-P